DEPARTMENT OF COMMERCE

National Oceanic and Atmospheric Administration

RIN 0648-XM51

Mid-Atlantic Fishery Management Council; Public Meeting

AGENCY: National Marine Fisheries Service (NMFS), National Oceanic and Atmospheric Administration (NOAA), Commerce.

ACTION: Notice of public meeting.

SUMMARY: The Mid-Atlantic Fishery Management Council's (MAFMC) Scientific and Statistical Committee (SSC) will hold a public meeting.

DATES: The meeting will be held on Thursday, January 22, 2009, from 9 a.m. to 5 p.m.

ADDRESSES: The meeting will be held at the Courtyard Baltimore BWI Airport Hotel, 1671 West Nursery Rd., Linthicum, MD 21090; telephone: (410) 859-8855.

Council address: Mid-Atlantic Fishery Management Council, 300 S. New Street, Room 2115, Dover, DE 19904; telephone: (302) 674-2331.

FOR FURTHER INFORMATION CONTACT: Daniel T. Furlong, Executive Director, Mid-Atlantic Fishery Management Council, 300 S. New Street, Room 2115, Dover, DE 19904; telephone: (302) 674-2331, extension 19.

SUPPLEMENTARY INFORMATION: The purpose of this meeting is to discuss SSC organizational details for the upcoming calendar year. Topics to be discussed include a summary of the recent National SSC Workshop, SSC terms of reference/defining role of the SSC, elements to consider in SSC specification of ABC, incorporating scientific uncertainty in SSC advice, MAFMC SSC operating procedures and 2009 schedule, species/assessment assignments, election of SSC Vice-Chair, and review of MAFMC implementation of ACLs and AMs.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Bryan at the Mid-Atlantic Council Office, (302) 674-2331 extension 18, at least 5 days prior to the meeting date.

Dated: December 30, 2008.
Tracey L. Thompson,
Acting Director, Office of Sustainable Fisheries, National Marine Fisheries Service.

[FR Doc. E8-31338 Filed 1-5-09; 8:45 am]

BILLING CODE 3510-22-S